DEPARTMENT OF THE INTERIOR

National Park Service

[NPS-WASO-NAGPRA-NPS0029880; PPWOCRADN0-PCU00RP14.R50000]

Notice of Inventory Completion: Tennessee Valley Authority, Knoxville, TN

AGENCY: National Park Service, Interior.

ACTION: Notice.

SUMMARY: The Tennessee Valley Authority (TVA) has completed an inventory of human remains and associated funerary objects in consultation with the appropriate Federally-recognized Indian Tribes, and has determined that there is no cultural affiliation between the human remains and associated funerary objects and any present-day Federally-recognized Indian Tribes. Representatives of any Federally-recognized Indian Tribe not identified in this notice that wish to request transfer of control of these human remains and associated funerary objects should submit a written request to the TVA. If no additional requestors come forward, transfer of control of the human remains and associated funerary objects to the Federally-recognized Indian Tribe stated in this notice may proceed.

DATES: Representatives of any Federally-recognized Indian Tribe not identified in this notice that wish to request transfer of control of these human remains and associated funerary objects should submit a written request with information in support of the request to the TVA at the address in this notice by April 27, 2020.

ADDRESSES: Dr. Thomas O. Maher, Tennessee Valley Authority, 400 West Summit Hill Drive, WT11C, Knoxville TN 37902-1401, telephone (865) 632-7458, email tomaher@tva.gov.

SUPPLEMENTARY INFORMATION: Notice is here given in accordance with the Native American Graves Protection and Repatriation Act (NAGPRA), 25 U.S.C. 3003, of the completion of an inventory of human remains and associated funerary objects under the control of the Tennessee Valley Authority, Knoxville, TN, and stored at the McClung Museum of Natural History and Culture (MM) at the University of Tennessee, Knoxville, TN. The human remains and associated funerary objects were removed from the following archeological sites in Benton County, TN: 40BN3, 40BN8, 40BN11, 40BN17, 40BN30, 40BN32, and 40BN47.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by TVA professional staff in consultation with representatives of the Cherokee Nation; Coushatta Tribe of Louisiana; Eastern Band of Cherokee Indians; The Chickasaw Nation; The Muscogee (Creek) Nation; The Osage Nation (previously listed as the Osage Tribe); The Seminole Nation of Oklahoma; Thlopthlocco Tribal Town; and the United Keetoowah Band of Cherokee Indians in Oklahoma (hereafter referred to as “The Consulted Tribes”).

History and Description of the Remains

The sites listed in this notice were excavated as part of TVA's Kentucky reservoir project by the University of Tennessee, using labor and funds provided by the Works Progress Administration. Details regarding these excavations have never been published. Field reports regarding these sites can be found at the MM and TVA. The human remains and associated funerary objects listed in this notice have been in the physical custody of the University of Tennessee since excavation, but are under the control of the TVA.

From July 26 to August 8, 1940, human remains representing, at minimum, 12 individuals were removed from site 40BN3, in Benton County, TN. Excavation commenced after TVA had acquired a permit for excavating this site on July 10, 1940. Excavation of 10 x 10-foot excavation units revealed that the latest prehistoric occupation was probably a Mississippian village, but construction of an adjacent bridge had disturbed most of these strata. A deeper Woodland occupation was noted, but there are no radiocarbon dates from this site. Five features were identified, including a flint knapping area and multiple fire pits. No structures were identified. These human remains represent three children, two adolescents, and seven adults. Most of the human remains were too fragmentary to identify sex. No known individuals were identified. The 47 associated funerary objects include two animal bones, four antler fragments, two antler tines, two antler tools, one beaver tooth, four bone awls, seven bone needles, one celt, two chipped stone tools, one drill, one perforated stone pendant, eight projectile points, one scraper, and 11 shell beads.

From December 10, 1940 to January 8, 1941, human remains representing, at minimum, one individual were removed from site 40BN8, in Benton County, TN. Excavation commenced after TVA had acquired a permit for excavating this site on October 8, 1940. Block excavations extended off of exploratory trenches, as well as isolated test squares. Six wall trench post mold patterns were identified. Only one had closed corners. There are no known radiocarbon dates from this site, but the ceramics suggest a Late Woodland to Mississippian occupation. One adult female was excavated from this site. No known individuals were identified. No associated funerary objects are present.

From August-to-December, 1940, human remains representing, at minimum, two individuals were removed from site 40BN11, in Benton County, TN. Excavation commenced after TVA had acquired the land encompassing this site on March 22, 1940. Two 3-foot wide trenches were passed through the site to evaluate its depth and stratigraphy. Archeological deposits ranged in thickness from 18 inches to two feet. A number of pits were excavated, but no patterns of post molds or wall trenches defining structures were identified. There are no known radiocarbon dates for this site. The excavators believed that it was occupied during the Mississippian period. Human remains from two adults were removed from features at the site. No known individuals were identified. No associated funerary objects are present.

From January 1 to February 20, 1941, human remains representing, at minimum, 10 individuals were removed from site 40BN17, in Benton County, TN. Excavation commenced after TVA had acquired the land encompassing this site on June 5, 1940. Excavations identified two strata. Stratum I was a sandy loam with a high organic content. Stratum II was a shell midden approximately 0.5 feet thick. There are no radiocarbon dates from this site. An Archaic occupation was followed by a Woodland occupation. These human remains represent one child, two adolescents, and seven adults. Most of the human remains were too fragmentary to identify sex. No known individuals were identified. The 33 associated funerary objects include two animal bones, one bone awl, and 30 shell beads.

From February 4 to April 16, 1941 human remains representing, at minimum, 26 individuals were removed from site 40BN30, in Benton County, TN. Excavation commenced after TVA had acquired the land encompassing this site on June 4, 1940. This site was located on a ridge between the Tennessee River and Lick Creek. Perpendicular trenches were placed on the site to identify the stratigraphy and inform further excavations. Below the plow zone a single occupational stratum was identified. This midden stratum varied in thickness from 3 to 18 inches. Approximately 56 whole or partial structures were identified from either post mold patterns or wall trenches. Most were rectangular in shape, although two were circular. There are no radiocarbon dates from this site. Ceramics indicate a Mississippian occupation. The human remains include males and females. Adults predominate, but infants, children and adolescents are also present. No known individuals were identified. The 20 associated funerary objects include four animal bones, three animal teeth, one chert blade, one stone discoidal, one iron ore discoidal, one stone hoe, five shell beads, and four pieces of pottery.

From August to September 1940, human remains representing, at minimum, two individuals were removed from site 40BN32, in Benton County, TN. Excavation commenced after TVA had purchased the land encompassing this site on June 6, 1940. Test pits, trenches and block excavations were applied to this site. One heavily plowed mound was present. There are no known radiocarbon dates from this site, but the artifacts suggest a Woodland occupation. The human remains excavated from this site represent two adults of indeterminate sex. No known individuals were identified. No associated funerary objects are present.

In September 1940, human remains representing, at minimum, one individual were removed from site 40BN47, in Benton County, TN. Excavation commenced after TVA had acquired the land encompassing this site on July 25, 1940. Site 40BN47 was not extensively excavated. The human remains identified represent the remains of an adult male encountered during exploratory excavations conducted while surveying the area. There are no known radiocarbon dates for this site. The Tennessee site form suggests Late Archaic, Early Woodland and early Mississippian occupations. No known individuals were identified. No associated funerary objects are present.

Determinations Made by the Tennessee Valley Authority

Officials of the Tennessee Valley Authority have determined that:

• Pursuant to 25 U.S.C. 3001(9), the human remains described in this notice are Native American based on their presence in prehistoric archeological sites and osteological analysis.

• Pursuant to 25 U.S.C. 3001(9), the human remains described in this notice represent the physical remains of 54 individuals of Native American ancestry.

• Pursuant to 25 U.S.C. 3001(3)(A), the 100 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• The Treaty of October 19, 1818, indicates that the land from which the cultural items were removed is the aboriginal land of The Chickasaw Nation.

• Pursuant to 43 CFR 10.11(c)(1)(ii), the disposition of the cultural items may be to The Chickasaw Nation. The Tennessee Valley Authority has agreed to transfer control of the human remains to The Chickasaw Nation.

• Pursuant to 43 CFR 10.11(c)(4), the Tennessee Valley Authority has agreed to transfer control of the associated funerary objects to The Chickasaw Nation.

Additional Requestors and Disposition

Representatives of any Federally-recognized Indian Tribe not identified in this notice that wish to request transfer of control of these human remains and associated funerary objects should submit a written request with information in support of the request to Dr. Thomas O. Maher, Tennessee Valley Authority, 400 West Summit Hill Drive, WT11C, Knoxville, TN 37902-1401, telephone (865) 632-7458, email tomaher@tva.gov, by April 27, 2020. After that date, if no additional requestors have come forward, transfer of control of the human remains and associated funerary objects to The Chickasaw Nation may proceed.

The Tennessee Valley Authority is responsible for notifying The Consulted Tribes that this notice has been published.

Dated: February 19, 2020.
Melanie O'Brien,
Manager, National NAGPRA Program.

[FR Doc. 2020-06432 Filed 3-26-20; 8:45 am]

BILLING CODE 4312-52-P